DEPARTMENT OF TRANSPORTATION

Federal Motor Carrier Safety Administration

[Docket No. FMCSA-2011-0225]

Agency Information Collection Activities; New Information Collection Request: Commercial Driver Individual Differences Study

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for its review and approval and invites public comment. The FMCSA requests approval of a new ICR that is associated with a study that will be conducted by a research contractor to investigate the differences among the characteristics of individual commercial drivers. This information collection will aid FMCSA in developing future safety initiatives by examining a wide array of driver and situational factors to determine if they are associated with increased or decreased crash and incident involvement.

DATES: Comments must be submitted on or before December 2, 2011.

ADDRESSES: You may submit comments identified by Federal Docket Management System (FDMS) Docket Number FMCSA-2011-0225 using any of the following methods:

• Federal eRulemaking Portal: http://www.regulations.gov. Follow the online instructions for submitting comments.

• Fax: 1-202-493-2251.

• Mail: Docket Management Facility; U.S. Department of Transportation, 1200 New Jersey Avenue, SE., West Building, Ground Floor, Room W12-140, 20590-0001.

• Hand Delivery or Courier: West Building, Ground Floor, Room W12-140, 1200 New Jersey Avenue, SE., Washington, DC, between 9 a.m. and 5 p.m. e.t., Monday through Friday, except Federal holidays.

Instructions: All submissions must include the Agency name and docket number. For detailed instructions on submitting comments and additional information on the exemption process, see the Public Participation heading below. Note that all comments received will be posted without change to http://www.regulations.gov, including any personal information provided. Please see the Privacy Act heading below.

Docket: For access to the docket to read background documents or comments received, go to http://www.regulations.gov, and follow the online instructions for accessing the dockets, or go to the street address listed above.

Privacy Act: Anyone is able to search the electronic form of all comments received into any of our dockets by the name of the individual submitting the comment (or signing the comment, if submitted on behalf of an association, business, labor union, etc.). You may review DOT's complete Privacy Act Statement for the Federal Docket Management System published in the Federal Register on January 17, 2008 (73 FR 3316), or you may visit http://edocket.access.gpo.gov/2008/pdfE8-794.pdf.

Public Participation: The Federal eRulemaking Portal is available 24 hours each day, 365 days each year. You can obtain electronic submission and retrieval help and guidelines under the “help” section of the Federal eRulemaking Portal Web site. If you want us to notify you that we received your comments, please include a self-addressed, stamped envelope or postcard, or print the acknowledgement page that appears after submitting comments online. Comments received after the comment closing date will be included in the docket and will be considered to the extent practicable.

FOR FURTHER INFORMATION CONTACT: Theresa Hallquist, Federal Motor Carrier Safety Administration, Office of Analysis, Research and Technology, Federal Motor Carrier Safety Administration, 1200 New Jersey Avenue, SE., Washington, DC 20590-0001. Telephone (202) 366-1064 or e-mail theresa.hallquist@dot.gov., Office hours are from 8 a.m. to 4 p.m., ET, Monday through Friday, except Federal holidays.

SUPPLEMENTARY INFORMATION: The purpose of this study is to identify, verify, quantify, and prioritize commercial driver risk factors. Primarily, these are personal factors such as demographic characteristics, medical conditions, personality traits, and performance capabilities. Risk factors may also include work environmental conditions, such as carrier operations type. The study will identify risk factors by linking the characteristics of individual drivers with their driving records, especially the presence or absence of DOT reportable crashes.

Title: Commercial Driver Individual Differences Study.

OMB Control Number: 2126-XXXX.

Type of Request: New ICR.

Respondents: Commercial motor vehicle drivers and fleet managers.

Estimated Number of Respondents: 21,020.

Estimated Time per Response: The estimated average time per responses are as follow: 1 hour, 5 minutes for paper and 1 hour for electronic Form MCSA-5863, “Commercial Motor Vehicle Driver Survey,” submissions; 35 minutes for paper and 30 minutes for electronically Form MCSA-5864, “Follow-Up Survey of Recent Life Experiences,” submissions; 75 minutes for paper and 70 minutes for electronic Driver Survey and Job Descriptive Index from the Follow-up Survey submissions; and 10 minutes for the Form MCSA-5865, “Fleet Managers Survey,” submissions.

Expiration Date: N/A. This is a new information collection request.

Frequency of Response: This information collection will be a single, nonrecurring event for 16,000 CMV driver participants and 20 fleet managers. For at least 5,000 CMV driver participants, the information collection will occur twice.

Estimated Total Annual Burden: 9,536 hours. 8,822 hours for CMV driver participants: [16,800 CMV drivers completing paper Driver Survey × 65 minutes + 4,200 CMV drivers completing electronic Driver Survey × 1 hour + 4,000 drivers completing paper Follow-Up Survey × 35 minutes per driver / 60 minutes + 1,000 drivers completing electronic Follow-Up Survey × 30 minutes per driver / 60 minutes + 800 CMV drivers completing paper Driver Survey and Job Descriptive Index × 75 minutes per driver / 60 minutes + 200 CMV drivers completing paper Driver Survey and Job Descriptive Inde× × 70 minutes per driver / 60 minutes = 26,466 hours/3 years = 8,822 hours] + 714 hours for Carrier Operations: [20 participating carriers × 2 hours to learn about and agree to participation + 40 carrier managers completing IRB training × 2 hours + 20 Managers recruiting and handling data collection of 20,000 respondents × 83 hours + 20 Managers completing Fleet Manager Survey × 10 minutes + Carrier managers delivering monthly crash reports to VTTI (20 carriers × 36 months) × 30 minutes / 60 minutes = 2,143/3 years = 714 hours]. 8,822 hours for CMV driver participants + 714 hours for Carriers Operations = 9,536 hours.

Public Comments Invited: You are asked to comment on any aspect of this revised information collection request, including: (1) The necessity and usefulness of the information collection for FMCSA to meet its goal in reducing truck crashes; (2) the accuracy of the estimated burdens; (3) ways to enhance the quality, usefulness, and clarity of the collected information; and (4) ways to minimize the collection burden without reducing the quality of the collected information. The agency will summarize and/or include your comments in the request for OMB's clearance of this information collection.

Issued on: September 23, 2011.
Kelly Leone,
Associate Administrator for Research and Information Technology.

[FR Doc. 2011-25325 Filed 9-30-11; 8:45 am]

BILLING CODE 4910-EX-P